DEPARTMENT OF ENERGY

Federal Energy Regulatory Commission

[Docket No. RM01-10-000]

Standards of Conduct for Transmission Providers; Notice of Agenda for Technical Conference

May 17, 2002.

This notice provides additional information concerning the May 21, 2002 technical conference to be held in this docket to discuss the proposed revisions to the gas and electric standards of conduct governing transmission providers and their energy affiliates. See April 25, 2002 Notice of Technical Conference and Staff Analysis of the Major Issues Raised in the Comments. The conference will begin at 9:30 a.m. at the Commission's offices, 888 First Street NE., Washington, DC in the Commission's Meeting Room. All interested persons are invited to attend.

Tentative Agenda

This agenda has been organized to reflect the interests of those who expressed an interest in participating in the discussions. The topics that had the greatest interest have been placed first on the agenda.

Participation in the Discussions

Those who have contacted Commission staff about participating in the discussions will be seated in the Commission Meeting Room. See attachment to this Notice. Observers will be accommodated in the Commission Meeting Room on a space available basis, but seating will also be available in an overflow room, which will have a broadcast of the discussion. For those seated in the Commission Meeting Room, standing microphones will be available to enable those in the audience to participate in the discussion as issues arise. All visitors must check in at the First Street entrance. All visitors should have picture identification readily available to ensure a quick check-in.

Procedures To File Additional Comments

Interested persons may file additional comments on the issues discussed at the conference, or other matters relevant to this proceeding, including alternative proposals by June 14, 2002. Comments should include a one-page single spaced position summary. Comments may be filed either in paper format or electronically. Those filing electronically do not need to make a paper filing. For paper filings, the original and 14 copies of such comments should be submitted to the Office of the Secretary, Federal Energy Regulatory Commission, 888 First Street, N.E., Washington, D.C. 20426 and should refer to Docket No. RM01-10-000.

Comments filed via the Internet must be prepared in WordPerfect, MS Word, Portable Document Format, or ASCII format. To file the document, access the Commission's website (www.ferc.gov) and clock on “Make an e-filing,” and then follow the instructions for each screen. First-time users will have to establish a user name and password. The Commission will send an automatic acknowledgment to the sender's E-mail address upon receipt of the comments.

User assistance for electronic filing is available at 202-208-0258 or by E-mail to efiling@ferc.gov. Comments should not be submitted to the e-mail address. All comments will be placed in the Commission's public files and will be available for inspection in the Commission's Public Reference Room at 888 First Street, NE., Washington, DC 20426 during regular business hours. Additionally, all comments may be viewed, printed or downloaded remotely via Internet through FERC's Homepage using the RIMS link. User assistance for RIMS is available at 202-208-2222, or by E-mail to rimsmaster@ ferc.gov.

Questions about the conference should be directed to: Demetra Anas, Office of General Counsel, Federal Energy Regulatory Commission, 888 First Street, NE., Washington, DC 20426, 202-208-0178, Demetra.Anas@ferc.gov.

Magalie R. Salas,
Secretary.

Standards of Conduct Affiliate Conference, May 21, 2002, Agenda

The times listed herein are approximate. The discussion of particular topics may take more or less time.

9:30-12:30 Discussion of Separation of Functions Issues

9:30-11:30 Separation of the transmission function from affiliated producers, gatherers, & LDCs.

• What is the impact on current operations of separating LDCs, producers, gatherers from the transmission function?

• What are the one-time and annual costs associated with the separation of these function?

• Are there other ways to achieve the purposes of the NOPR in requiring a separation of the transmission function?

11:30-12:30 Separation of the transmission function from the bundled sales function for retail native load.

• Where do the transmission and bundled sales functions currently fit in the corporate structure?

• What is the impact of the proposed rule; can the costs and benefits of this proposed change be quantified?

12:30-1:30 Lunch Break

1:30-3:00 Information Disclosure Issues

• What is the impact of the automatic imputation rule on corporate governance?

• Would the no-conduit rule adequately achieve the Commission's purposes of avoiding preferential information flow?

• What are the types of operational and reliability information that transmission providers should be allowed to share with their energy affiliates?

3:00-4:30 Discussion of the staff's proposed revisions to the regulatory text.

• Is the definition of an energy affiliate drafted appropriately to achieve the Commission's purposes?

• What alternative language should be considered for the definition or other provisions?

Discussion Participants

I. Separation of Transmission function from affiliated producers, gatherers & LDCs, representatives of:

British Petroleum-Amoco

Cinergy

CMS Energy Corp.

Dominion Resources Inc.

Duke Energy

Duke Energy Gas Transmission Co.

Dynegy

El Paso Corporation

El Paso Energy Partners

ExxonMobil

Independent Petroleum Association of America

Interstate Natural Gas Association of America

Lockheed Martin Missions System

Midstream Gas and Liquids, Williams Energy Services

National Fuel Gas Distribution Company

National Gas Supply Association

National Rural Electric Cooperatives

Nisource Energy Distribution Group

Questar Pipeline Company and Questar Gas Company

Shell Gas Transmission Co.

II. Separation of Transmission function from the bundled sales function for retail native load discussion, representatives of:

Electric Power Supply Association

Louisville Gas and Electric Company

National Association of State Utility Consumer Advocates

National Energy Marketers Association

National Rural Electric Cooperatives

Ontario Power Generators

Pinnacle West

Southern Companies

Transmission Access Policy Study Group

III. Information Disclosure Issues, Representatives of:

Ad Hoc Marketers

British Petroleum-Amoco

Duke Energy Co.

Duke Energy Gas Transmission Co.

El Paso Corporation

Entergy

Exxon-Mobil

Interstate Natural Gas Association of America

Midstream Gas and Liquids, Williams Energy Services

NISource

Natural Gas Supply Association

National Fuel Gas Supply Corporation

IV. Discussion of staff's proposed revisions to the regulatory text

AdHoc Marketers

Duke Energy Gas Transmission Co.

Dynegy Co.

Entergy Services, Inc.

ExxonMobil

IPAA

National Fuel Gas Supply Corporation

National Grid

National Association of State Utility Consumer Advocates

Independent Petroleum Association of America

Shell Gas Transmission

[FR Doc. 02-12946 Filed 5-22-02; 8:45 am]

BILLING CODE 6717-01-P